DEPARTMENT OF JUSTICE

Notice of Lodging of Proposed Consent Decree Under the Comprehensive Environmental Response, Compensation, and Liability Act (CERCLA)

On November 26, 2012 the Department of Justice lodged a proposed Consent Decree with the United States District Court for the District of Nebraska in the lawsuit entitled United States and State of Nebraska v. Aaron Ferer & Sons, Company, Civil Action No. 8:12-cv-00406.

The Complaint states claims on behalf of the United States and the State of Nebraska against Aaron Ferer & Sons, Company, under CERCLA Section 107 as the former owner and operator of a lead processing facility that contaminated the Omaha Lead Site in Omaha, Nebraska. Aaron Ferer & Sons, Company, is resolving its liability for a payment of $500,000, $20,000 of which is being paid to the State of Nebraska. Aaron Ferer & Sons, Company is receiving a covenant-not-to-sue from the United States and the State of Nebraska.

The publication of this notice opens a period for public comment on the consent decree. Comments should be addressed to the Assistant Attorney General, Environment and Natural Resources Division, and should refer to United States v. Aaron Ferer & Sons, Company, D.J. Ref. No. 90-11-3-07834/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $4.25 (25 cents per page reproduction cost) payable to the United States Treasury.

Robert E. Maher, Jr.,
Acting Deputy Section Chief, Environmental Enforcement Section, Environment and Natural Resources Division.

[FR Doc. 2012-28942 Filed 11-29-12; 8:45 am]

BILLING CODE 4410-15-P